DEPARTMENT OF DEFENSE

Department of the Navy

Notice of Availability of Government-Owned Inventions; Available for Licensing

AGENCY: Department of the Navy, DOD.

ACTION: Notice.

SUMMARY: The following inventions are assigned to the U.S. Government as represented by the Secretary of the Navy and are available for licensing by the Department of the Navy.

U.S. Patent Application Serial Number 11/009847 entitled “Multiple Shock Event Sensing Device.” U.S. Patent Application Serial Number 11/040,291 entitled “MEMS Inertial Delay Device.” U.S. Patent Application Serial Number 10/826,791 entitled “Container, and Related Methods.” U.S. Patent Application serial Number 11/040,300 entitled “MEMS Multi-Directional Shock Sensor.” U.S. Patent Application Serial Number 10/040,292 entitled “Method and Device for Clearing Firebreaks and Controlling Fire.” U.S. Patent Application Serial Number 11/010,701 entitled “Inhibition of Aluminum Oxidation Through the Vapor Deposition of a Passivation Layer and method Thereof.”

ADDRESSES: Requests for copies of the Patent Applications cited should be directed to the Naval Surface Warfare Center, Code CAB, 101 Strauss Avenue, Indian Head, MD 20640-5035.

FOR FURTHER INFORMATION CONTACT: Dr. J. Scott Deiter, Head, Technology Transfer Office, Naval Surface Warfare Center Indian Head Division, Code CAB, 101 Strauss Avenue, Indian Head, MD 20640-5035, telephone 301-744-6111.

Dated: March 9, 2005.
I.C. Le Moyne Jr.,
Lieutenant, Judge Advocate General's Corps, U.S. Navy, Alternate Federal Register Liaison Officer.

[FR Doc. 05-5151 Filed 3-15-05; 8:45 am]

BILLING CODE 3810-FF-P